DEPARTMENT OF TRANSPORTATION

Federal Aviation Administration

14 CFR Part 39

[Docket No. FAA-2007-27154; Directorate Identifier 2006-NM-139-AD; Amendment 39-15127; AD 2007-14-05]

RIN 2120-AA64

Airworthiness Directives; Airbus Model A310 and A300-600 Series Airplanes

AGENCY: Federal Aviation Administration (FAA), Department of Transportation (DOT).

ACTION: Final rule.

SUMMARY: The FAA is adopting a new airworthiness directive (AD) for all Airbus Model A310 and A300-600 series airplanes. This AD requires revising the Airworthiness Limitations section of the Instructions for Continued Airworthiness by incorporating new and revised certification maintenance requirements. This AD results from the manufacturer determining that additional and revised certification maintenance requirements are necessary in order to ensure continued operational safety of the affected airplanes. We are issuing this AD to prevent safety-significant latent failures that would, in combination with one or more other specific failures or events, result in a hazardous or catastrophic failure condition of avionics, hydraulic systems, fire detection systems, fuel systems, or other critical systems.

DATES: This AD becomes effective August 22, 2007.

The Director of the Federal Register approved the incorporation by reference of certain publications listed in the AD as of August 22, 2007.

ADDRESSES: You may examine the AD docket on the Internet at http://dms.dot.gov or in person at the U.S. Department of Transportation, Docket Operations, M-30, West Building Ground Floor, Room W12-140, 1200 New Jersey Avenue, SE., Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Operations office between 9 a.m. and 5 p.m., Monday through Friday, except Federal holidays. The Docket Operations office (telephone (800) 647-5527) is located on the ground floor of the West Building at the street address stated in the ADDRESSES section.

Discussion

The FAA issued a notice of proposed rulemaking (NPRM) to amend 14 CFR part 39 to include an AD that would apply to all Airbus Model A310 airplanes and Model A300-600 series airplanes. That NPRM was published in the Federal Register on February 6, 2007 (72 FR 5362). That NPRM proposed to require revising the Airworthiness Limitations section of the Instructions for Continued Airworthiness by incorporating new and revised certification maintenance requirements (CMRs).

Comments

We provided the public the opportunity to participate in the development of this AD. We have considered the comments received.

Request for Transition Period/Grace Period for Certain Maintenance Significant Item (MSI) Tasks

Airbus requests that we give a transition/grace period of approximately 2,000 flight hours (or twelve months) for the tasks specified in MSI 78.30.00 of the CMRs, “thrust reverser actuation and cowling for airplanes that have installed a third line of defense (TLOD).” Airbus states that the service bulletins that introduce the TLOD have been available since 2001. Airbus notes that this means that some airplanes might have exceeded the 7,000-flight-hour threshold for doing the MSI requirements and, per the NPRM, the actions specified in the MSI would be required for those airplanes within 3 months after the effective date of the AD. Based upon approximate annual utilization data, Airbus proposes a transition period of 2,000 flight hours or 12 months.

We agree to add a transition/grace period for the MSI 78.30.00 tasks for the reasons Airbus stated. We have determined that providing this period for the tasks specified in MSI 78.30.00, as recommended by the manufacturer, will not adversely affect safety. We have added a new paragraph (g) to this AD that gives a transition/grace period for MSI 78.30.00 tasks, and we have revised paragraph (f) of this AD to refer to that new paragraph.

Request To Allow for Adjustments of Two Star CMRs

FedEx requests that the NPRM include a mechanism to allow for adjustments of two star CMRs in accordance with an operator's approved escalation practices or by an approved reliability program. FedEx states that the NPRM would require that operators request an alternative method of compliance (AMOC) in order to escalate compliance times specified in the CMRs and this would increase the burden for operators. In addition, FedEx believes that any adjustments should be able to be granted by the FAA, and not the Direction Generale de l'Aviation Civile (DGAC), which is the airworthiness authority for France, as specified in the CMRs.

We partially agree with the commenter. As discussed in advisory circular AC 25-19, task intervals for two star CMRs may be adjusted using an operator's approved escalation practice or an approved reliability program. However, two star CMRs require an FAA-approved letter for any tasks to be changed or deleted. This AD allows adjustments to intervals as specified in Section 4 of the CMRs, “Handling of Certification Maintenance Requirements” and requires that the task may not be changed or deleted without prior approval from the aircraft certification office (ACO) of the FAA. Therefore, an AMOC is required for changes to a task but not for adjustments of the task intervals.

We agree that adjustments should be granted by the FAA. We have revised paragraph (f) of this AD to clarify that “where the CMRs specify to contact the DGAC, operators are required to contact the FAA for such approvals.”

Request To Allow Short-Term Extensions

FedEx requests that we allow for exceptional short-term flight-hour or flight-cycle extensions for specific tasks. FedEx states that the CMRs specify these extensions are to be submitted to the DGAC for approval, but believes that these extensions should be granted by the FAA.

We partially agree with the commenter's request. We already allow for short-term extensions as specified in the CMRs. The short-term extension mechanism is clearly stated in Section 5 of the CMRs, “Exceptional Short-Term Extensions.” It is further stated in Section 5, that short-term extensions up to the maximum values may be granted without consultation with the DGAC. Therefore, only extensions in excess of those defined in Section 5 require further FAA approval. In this case, operators will need to request an AMOC from the FAA. We have not revised this AD in this regard.

However, as stated previously, we have revised paragraph (f) of this AD to clarify that where the CMRs specify to contact the DGAC, the operators must contact the FAA.

Request To Revise Model Designations

Air Transport Association (ATA) and UPS request that we revise the model designations in the NPRM. ATA notes that because we have called out all the Model A300-600 designations earlier in the NPRM, we should refer to only the Model A300-600 series aircrafts in paragraph (f) of the NPRM. UPS points out that the model designations for the CMRs in paragraph (f) of the NPRM need to be revised.

We agree to revise the model designations. Since the NPRM was issued, the type certificate data sheet for the affected models has been revised. We have revised the applicability and model designations specified in the AD to identify model designations as published in the most recent type certificate data sheet for the affected models.

Request for Clarification of Proposed Requirements

FedEx requests that we clarify the proposed requirements. FedEx questions whether revision of an operator's approved maintenance program to include the latest CMR revision would be all that is required by the NPRM, or if individual CMR inspections would be deemed mandatory and therefore would require repetitive tracking.

Concerning FedEx's request for clarification, we infer that the commenter is wondering if, after revising its copy of the Airworthiness Limitation section, there are other required actions such as ensuring that the operator's maintenance program is updated to incorporate the actions specified in the revised Airworthiness Limitations. Ensuring that one's maintenance program and the actions of its maintenance personnel are in accordance with the Airworthiness Limitations is required but not by the AD. Section 91.403(c) of the Federal Aviation Regulations (14 CFR 91.403(c)) specifies that no person may operate an aircraft for which airworthiness limitations have been issued unless those limitations have been complied with. Therefore, there is no need to further expand the requirements of the AD beyond that which was proposed because section 91.403(c) already imposes the appropriate required action after the airworthiness limitations are revised. We have not revised this AD in this regard.

Request To Reference Later Approved Revisions

FedEx and UPS request that we refer to later approved revisions of the CMRs. FedEx notes that the CMRs seem to be revised regularly.

We cannot use the phrase “or later FAA-approved revisions” in an AD when referring to the service document because doing so violates Office of the Federal Register (OFR) regulations for approval of materials “incorporated by reference” in rules. In general terms, we are required by these OFR regulations to either publish the service document contents as part of the actual AD language, or submit the service document to the OFR for approval as “referenced” material—in which case we may only refer to such material in the text of an AD. Since later approved revisions do not exist when the rule is issued, they cannot be submitted to the OFR for approval. To allow operators to use later revisions of the referenced document (issued after publication of the AD), either we must revise the AD to refer to specific later revisions, or operators must request approval to use later revisions as an alternative method of compliance with this AD under the provisions of paragraph (h) of this AD. We have not revised this AD in this regard.

Request To Revise the Instructions in Paragraph (f) of the NPRM

UPS requests that we revise the instructions in paragraph (f) of the NPRM. UPS notes that paragraph (f) specifies to revise the Airworthiness Limitations Section (ALS) of the Instructions for Continued Airworthiness. UPS states that this document is controlled by the manufacturer and cannot be revised by the operator. UPS concludes that operators cannot comply with this proposed requirement and suggests rewording the requirement to state, “revise the Operators Maintenance Program.”

We do not agree. The intent is to have all airworthiness limitations, regardless whether imposed by original type certification or by later AD, located in one immediately recognizable document. In 1980, the FAA identified the Airworthiness Limitations section of the Instructions for Continued Airworthiness as the appropriate document. We consider that not having all airworthiness limitations in one document could lead to confusion as to what is or is not a mandatory maintenance action as identified in Federal Aviation Regulation, part 25, Appendix H, section H25.4. This is the basis of our requirement to have each operator maintain a current copy of the Airworthiness Limitations section. Each operator is provided with a copy of the Airworthiness Limitations section of the Instructions for Continued Airworthiness and it is the operator's copy that this AD requires to be revised to incorporate the latest revisions provided by the manufacturer. We have not revised this AD in this regard.

Clarification of AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Cost per airplane | Number of U.S.- registered airplanes | Fleet cost
Revision of maintenance program | 1 | $80 | $80 | 203 | $16,240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-14-05 Airbus: Amendment 39-15127. Docket No. FAA-2007-27154; Directorate Identifier 2006-NM-139-AD.

Effective Date

(a) This AD becomes effective August 22, 2007.

Affected ADs

(b) None.

Applicability

(c) This AD applies to all Airbus Model A310 series airplanes and Model A300-600 series airplanes, certificated in any category.

Note 1: This AD requires revisions to certain operator maintenance documents to include new inspections. Compliance with these actions is required by 14 CFR 91.403(c). For airplanes that have been previously modified, altered, or repaired in the areas addressed by these inspections, the operator may not be able to accomplish the inspections described in the revisions. In this situation, to comply with 14 CFR 91.403(c), the operator must request approval for an alternative method of compliance according to paragraph (h) of this AD. The request should include a description of changes to the required inspections that will ensure the continued damage tolerance of the affected structure. The FAA has provided guidance for this determination in Advisory Circular (AC) 25.1529-1.

Unsafe Condition

(d) This AD results from the manufacturer determining that additional and revised certification maintenance requirements are necessary in order to ensure continued operational safety of the affected airplanes. We are issuing this AD to prevent safety-significant latent failures that would, in combination with one or more other specific failures or events, result in a hazardous or catastrophic failure condition of avionics, hydraulic systems, fire detection systems, fuel systems, or other critical systems.

Compliance

(e) You are responsible for having the actions required by this AD performed within the compliance times specified, unless the actions have already been done.

Revise the Airworthiness Limitations Section of the Instructions for Continued Airworthiness

(f) Within three months after the effective date of this AD, revise the Airworthiness Limitations section of the Instructions for Continued Airworthiness by incorporating Airbus A300-600 Certification Maintenance Requirements (CMRs) AI/ST5/829/85, Issue 12, dated February 2005 (for Model A300-600 series airplanes); or Airbus A310 CMR AI/ST5/849/85, Issue 12, dated February 2005 (for Model A310 series airplanes); as applicable. Accomplish the actions specified in the applicable CMRs at the intervals specified in the applicable CMRs, except as provided by paragraph (g) of this AD. Where the CMRs specify to contact the Direction Générale de l'Aviation Civile (DGAC), operators are required to contact the Manager, International Branch, ANM-116, Transport Airplane Directorate, FAA, for such approvals. The actions must be accomplished in accordance with the applicable CMRs.

Transition/Grace Period for Maintenance Significant Item (MSI) 78.30.00 Tasks

(g) For tasks identified in MSI 78.30.00, “Thrust Reverser Actuation and Cowling,” of Section 2, “CMR ‘Two Star’ Tasks,” of Airbus A300-600 CMR AI/ST5/829/85, Issue 12, dated February 2005; and Airbus A310 CMR AI/ST5/849/85, Issue 12, dated February 2005: The initial compliance time is within 2,000 flight cycles or 12 months after the effective date of this AD, whichever occurs later. Thereafter, actions identified in MSI 78.30.00 must be accomplished within the repetitive interval specified in the applicable CMRs. Where the CMRs specify to contact the DGAC, operators are required to contact the Manager, International Branch, ANM-116, for such approvals. The actions must be accomplished in accordance with the applicable CMRs.

Alternative Methods of Compliance (AMOCs)

(h)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(i) French airworthiness directive F-2005-123, dated July 20, 2005, also addresses the subject of this AD.

Material Incorporated by Reference

(j) You must use Airbus A300-600 Certification Maintenance Requirements AI/ST5/829/85, Issue 12, dated February 2005; or Airbus A310 Certification Maintenance Requirements AI/ST5/849/85, Issue 12, dated February 2005; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on June 26, 2007.
Ali Bahrami,
Manager, Transport Airplane Directorate, Aircraft Certification Service.

[FR Doc. E7-13322 Filed 7-17-07; 8:45 am]

BILLING CODE 4910-13-P